DEPARTMENT OF LABOR

Employment and Training Administration

[TA-W-58,333]

Sonoco Products Company, Chester, VA; Dismissal of Application for Reconsideration

Pursuant to 29 CFR 90.18(C) an application for administrative reconsideration was filed with the Director of the Division of Trade Adjustment Assistance for workers at Sonoco Products Company, Chester, Virginia. The application did not contain new information supporting a conclusion that the determination was erroneous, and also did not provide a justification for reconsideration of the determination that was based on either mistaken facts or a misinterpretation of facts or of the law. Therefore, dismissal of the application was issued.

TA-W-58,333; Sonoco Products Company, Chester, Virginia (February 10, 2006).

Signed at Washington, DC this 13th day of February 2006.
Erica R. Cantor,
Director, Division of Trade Adjustment Assistance.

[FR Doc. E6-2494 Filed 2-21-06; 8:45 am]

BILLING CODE 4510-30-P